DEPARTMENT OF COMMERCE

National Oceanic and Atmospheric Administration

RIN 0648-XF797

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Advisory Panel to consider actions affecting New England fisheries in the exclusive economic zone (EEZ). Recommendations from this group will be brought to the full Council for formal consideration and action, if appropriate.

DATES: This meeting will be held on Monday, November 20, 2017 at 10 a.m.

ADDRESSES: The meeting will be held at the Holiday Inn, 700 Myles Standish Blvd., Taunton, MA 02780; telephone: (508) 823-0430.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will review analyses prepared for Herring Amendment 8 Draft Environmental Impact Statement (DEIS) specific to the range of alternatives developed to address potential localized depletion and user conflicts in the herring fishery. The panel may identify preferred alternatives for the Committee to consider the following day. The panel is not scheduled to discuss the other measures under consideration in Amendment 8, Acceptable Biological Catch (ABC) control rule alternatives. The Council reviewed the ABC control rule alternatives at the September 2017 meeting and declined to select a preferred alternative, but approved that portion of Amendment 8 to proceed for submission and public comment. They will discuss recommendations for the Committee to consider for Herring Research Set-Aside research priorities for fishing years 2019-21 and discuss any challenges the program has had in recent years. They will discuss other business, as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: October 25, 2017.
Tracey L. Thompson,
Acting Deputy Director, Office of Sustainable Fisheries, National Marine Fisheries Service.

[FR Doc. 2017-23592 Filed 10-30-17; 8:45 am]

BILLING CODE 3510-22-P